DEPARTMENT OF TRANSPORTATION

Federal Aviation Administration

14 CFR Parts 91, 121, 125, and 135

[Docket No. FAA-2006-25334; Amdt Nos. 91-332, 121-370, 125-64, and 135-130]

RIN 2120-AI76

Additional Types of Child Restraint That May Be Furnished and Used on Aircraft; Technical Amendment

AGENCY: Federal Aviation Administration, DOT.

ACTION: Final rule; technical amendment.

SUMMARY: The FAA is amending regulations relating to the label required for FAA approved child restraint systems onboard aircraft. This final rule corrects minor technical errors in the codified regulations and updates a cross-reference.

DATES: Effective May 20, 2014.

FOR FURTHER INFORMATION CONTACT: For technical questions concerning this action, contact Nancy Lauck Claussen, Air Transportation Division, AFS-200, Federal Aviation Administration, 800 Independence Avenue SW., Washington, DC 20591; telephone: 202-267-8166; email: nancy.l.claussen@faa.gov.

Background

On July 14, 2006, the FAA published a final rule entitled, “Additional Types of Child Restraint Systems That May Be Furnished and Used on Aircraft” (July 2006 CRS final rule). See 71 FR 40003. In that final rule, the FAA amended certain operating regulations to allow passengers and aircraft operators to furnish and use more types of child restraint systems (CRS) on aircraft. The final rule allowed the use of CRS that the FAA approves under the aviation standards in Technical Standard Order C-100b, Child Restraint Systems. In addition, the rule allowed the use of CRS approved by the FAA under its certification regulations regarding the approval of materials, parts, processes, and appliances, including CRS approved for use by the FAA under 14 CFR 21.305(d). The intended effect of the final rule was to increase the number of CRS options that are available for children to use on aircraft, while maintaining high standards for certification and approval.

By letter dated August 30, 2006, the FAA approved a child restraint device manufactured by AmSafe, Inc. (AmSafe) in accordance with the amendments put in place by the July 2006 CRS final rule. Currently, the AmSafe device (CARES, Part No. 4082) is the only CRS approved in accordance with the amendments adopted in the July 2006 CRS final rule.

On October 16, 2009, the FAA published a final rule entitled “Production and Airworthiness Approvals, Part Marking, and Miscellaneous Amendments” (74 FR 53368). In the “Production and Airworthiness Approvals, Part Marking, and Miscellaneous Amendments” final rule, the FAA amended its certification procedures and identification requirements for aeronautical products and articles. As a result of this amendment, 14 CFR 21.305 was redesignated as 14 CFR 21.8, effective April 14, 2010.

Technical Amendment

This technical amendment makes revisions that affect four parts of 14 CFR—parts 91, 121, 125 and 135. The revisions are in the sections of these four parts that address labeling for CRS approved for use on aircraft. In each part a technical revision is made to add the necessary language to the CRS labeling requirements to address both CRS previously approved under § 21.305(d) and future CRS approved under § 21.8(d).

On August 12, 2010, the FAA amended § 91.107(a)(3)(iii)(B)(3)(iv) to address the redesignation of § 21.305 as § 21.8. See 75 FR 48857. Although the technical amendment did address future CRS approved under new § 21.8(d), it did not address the CRS previously approved under § 21.305(d). With this technical amendment, the FAA further amends § 91.107(a)(3)(iii)(B)(3)(iv) to resolve the discrepancy created by the August 12, 2010 amendment.

In addition, when the July 2006 CRS final rule was published, adding more options regarding CRS approval for use on aircraft, the punctuation for the preceding paragraphs was not updated. This technical amendment updates the punctuation to reflect the CRS options added by the July 2006 CRS final rule.

Accordingly, this technical amendment revises §§ 121.311(b)(2)(ii)(C)(4), 125.211(b)(2)(ii)(C)(4), and 135.128(a)(2)(ii)(C)(4) by removing the reference to § 21.305(d) and replacing it with “§ 21.8(d) of this chapter”. This technical amendment also revises §§ 91.107(a)(3)(iii)(B)(3)(iv), 121.311(b)(2)(ii)(C)(4), 125.211(b)(2)(ii)(C)(4) and 135.128(a)(2)(ii)(C)(4) to clarify that the label for the single CRS approved under these paragraphs—the child restraint device manufactured by AmSafe (CARES, Part No. 4082)—is not affected by this technical amendment. Finally, this technical amendment amends the punctuation at the end of each of the two paragraphs preceding §§ 91.107(a)(3)(iii)(B)(3)(iv), 121.311(b)(2)(ii)(C)(4), 125.211(b)(2)(ii)(C)(4) and in the one paragraph preceding § 135.128(a)(2)(ii)(C)(4).

In addition, the agency restores a reference to the authority citation for part 121 that was inadvertently deleted with the publication of the Prohibition on Personal Use of Electronic Devices on the Flight Deck final rule (79 FR 8263, February 12, 2014).

Because the changes in this technical amendment result in no substantive change, the FAA finds good cause exists under 5 U.S.C. 553(d)(3) to make the amendments effective in less than 30 days.

List of Subjects

14 CFR Part 91

Aircraft, Aviation safety.

14 CFR Part 121

Air carriers, Safety, Transportation.

14 CFR Part 125

Aircraft, Aviation safety.

14 CFR Part 135

Air taxis, Aircraft, Aviation safety.

The Amendments

In consideration of the foregoing, the Federal Aviation Administration amends Chapter I of Title 14 Code of Federal Regulations as follows:

PART 91—GENERAL OPERATING AND FLIGHT RULES

1. The authority citation for part 91 continues to read as follows:

Authority: 49 U.S.C. 106(f), 106(g), 1155, 40103, 40113, 40120, 44101, 44111, 44701, 44704, 44709, 44711, 44712, 44715, 44716, 44717, 44722, 46306, 46315, 46316, 46504, 46506-46507, 47122, 47508, 47528-47531, 47534, articles 12 and 29 of the Convention on International Civil Aviation (61 Stat. 1180), (126 Stat. 11).

2. Amend § 91.107 by revising paragraphs (a)(3)(iii)(B)(3)(ii), (iii), and (iv) to read as follows:

§ 91.107 Use of safety belts, shoulder harnesses, and child restraint systems.

(a) * * *

(3) * * *

(iii) * * *

(B) * * *

(3) * * *

(ii) That the seat was manufactured under the standards of the United Nations;

(iii) That the seat or child restraint device furnished by the operator was approved by the FAA through Type Certificate or Supplemental Type Certificate; or

(iv) That the seat or child restraint device furnished by the operator, or one of the persons described in paragraph (a)(3)(iii)(A) of this section, was approved by the FAA in accordance with § 21.8(d) of this chapter or Technical Standard Order C-100b or a later version. The child restraint device manufactured by AmSafe, Inc. (CARES, Part No. 4082) and approved by the FAA in accordance with § 21.305(d) (2010 ed.) of this chapter may continue to bear a label or markings showing FAA approval in accordance with § 21.305(d) (2010 ed.) of this chapter.

* * * * *

PART 121—OPERATING REQUIREMENTS: DOMESTIC, FLAG, AND SUPPLEMENTAL OPERATIONS

3. The authority citation for part 121 is amended to read as follows:

Authority: 49 U.S.C. 106(f), 106(g), 40113, 40119, 41706, 44101, 44701-44702, 44705, 44709-44711, 44713, 44716-44717, 44722, 44732; 46105; Pub. L. 111-216, 124 Stat. 2348 (49 U.S.C. 44701 note); Pub. L. 112-95, 126 Stat. 62 (49 U.S.C. 44732 note).

4. Amend § 121.311 by revising paragraphs (b)(2)(ii)(C)(2), (3), and (4) to read as follows:

§ 121.311 Seats, safety belts, and shoulder harnesses.

* * * * *

(b) * * *

(2) * * *

(ii) * * *

(C) * * *

(2) That the seat was manufactured under the standards of the United Nations;

(3) That the seat or child restraint device furnished by the certificate holder was approved by the FAA through Type Certificate or Supplemental Type Certificate; or

(4) That the seat or child restraint device furnished by the certificate holder, or one of the persons described in paragraph (b)(2)(i) of this section, was approved by the FAA in accordance with § 21.8(d) of this chapter or Technical Standard Order C-100b, or a later version. The child restraint device manufactured by AmSafe, Inc. (CARES, Part No. 4082) and approved by the FAA in accordance with § 21.305(d) (2010 ed.) of this chapter may continue to bear a label or markings showing FAA approval in accordance with § 21.305(d) (2010 ed.) of this chapter.

* * * * *

PART 125—CERTIFICATION AND OPERATIONS: AIRPLANES HAVING A SEATING CAPACITY OF 20 OR MORE PASSENGERS OR A MAXIMUM PAYLOAD CAPACITY OF 6,000 POUNDS OR MORE; AND RULES GOVERNING PERSONS ON BOARD SUCH AIRCRAFT

5. The authority citation for part 125 continues to read as follows:

Authority: 49 U.S.C. 106(f), 106(g), 40113, 44701-44702, 44705, 44710-44711, 44713, 44716-4717, 44722.

6. Amend § 125.211 by revising paragraphs (b)(2)(ii)(C)(2), (3) and (4) to read as follows:

§ 125.211 Seat and safety belts.

* * * * *

(b) * * *

(2) * * *

(ii) * * *

(C) * * *

(2) That the seat was manufactured under the standards of the United Nations;

(3) That the seat or child restraint device furnished by the certificate holder was approved by the FAA through Type Certificate or Supplemental Type Certificate; or

(4) That the seat or child restraint device furnished by the certificate holder, or one of the persons described in paragraph (b)(2)(i) of this section, was approved by the FAA in accordance with § 21.8(d) of this chapter or Technical Standard Order C-100b, or a later version. The child restraint device manufactured by AmSafe, Inc. (CARES, Part No. 4082) and approved by the FAA in accordance with § 21.305(d) (2010 ed.) of this chapter may continue to bear a label or markings showing FAA approval in accordance with § 21.305(d) (2010 ed.) of this chapter.

* * * * *

PART 135—OPERATING REQUIREMENTS: COMMUTER AND ON-DEMAND OPERATIONS

7. The authority citation for part 135 continues to read as follows:

Authority: 49 U.S.C. 106(f), 106(g), 41706, 40113, 44701-44702, 44705, 44709, 44711-44713, 44715-44717, 44722, 44730, 45101-45105; Pub. L. 112-95, 126 Stat. 58 (49 U.S.C. 44730).

8. Amend § 135.128 by revising paragraphs (a)(2)(ii)(C)(3) and (4) to read as follows:

§ 135.128 Use of safety belts and child restraint systems.

(a) * * *

(2) * * *

(ii) * * *

(C) * * *

(3) That the seat or child restraint device furnished by the certificate holder was approved by the FAA through Type Certificate or Supplemental Type Certificate; or

(4) That the seat or child restraint device furnished by the certificate holder, or one of the persons described in paragraph (a)(2)(i) of this section, was approved by the FAA in accordance with § 21.8(d) of this chapter or Technical Standard Order C-100b, or a later version. The child restraint device manufactured by AmSafe, Inc. (CARES, Part No. 4082) and approved by the FAA in accordance with § 21.305(d) (2010 ed.) of this chapter may continue to bear a label or markings showing FAA approval in accordance with § 21.305(d) (2010 ed.) of this chapter.

* * * * *

Issued under the authority provided by 49 U.S.C. 106(f) and 44701(a) in Washington, DC, on May 14, 2014.
Brenda D. Courtney,
Acting Director, Office of Rulemaking.

[FR Doc. 2014-11554 Filed 5-19-14; 8:45 am]

BILLING CODE 4910-13-P